SECURITIES AND EXCHANGE COMMISSION

[Investment Company Act Release No. 34915; File No. 812-15304]

Hartford Schroders Private Opportunities Fund, et al.

May 11, 2023

AGENCY: Securities and Exchange Commission (“Commission” or “SEC”).

ACTION: Notice.

Notice of application for an order (“Order”) under section 17(d) of the Investment Company Act of 1940 (the “Act”) and rule 17d-1 under the Act to permit certain joint transactions otherwise prohibited by section 17(d) of the Act and rule 17d-1 under the Act.

Summary of Application: Applicants request an order to permit certain closed-end management investment companies to co-invest in portfolio companies with each other and with certain affiliated investment entities.

Applicants: Hartford Schroders Private Opportunities Fund, Hartford Funds Management Company, LLC, Schroder Investment Management North America Inc., Schroders Capital Management (US) Inc., Cresta III S.C.S., GPEP V S.C.S., IST3 Manesse PE3 Impact S.C.S., KVT PE S.C.S., Malatrex S.C.S., Marmolata PE Impact S.C.S., Marmolata S.C.S., PSY Private Equity S.C.S., SA-EL II S.C.S., SA-EL Opportunity S.C.S., Salève 2022 S.C.S., SC Global Opportunities S.L.P., Schroder British Opportunities Trust PLC, Schroder UK Public Private Trust PLC, Schroders Capital cPl Global 2023-2025 S.C.S., Schroders Capital Private Equity Asia VI S.C.S., Schroders Capital Private Equity Europe Direct III S.C.S., Schroders Capital Private Equity Europe VIII S.C.S., Schroders Capital Private Equity Global Direct III S.C.S., Schroders Capital Private Equity Global III S.C.S., Schroders Capital Private Equity Global Innovation X S.C.S., Schroders Capital Private Equity Global Innovation XI S.C.S., Schroders Capital Private Equity Healthcare S.C.S., Schroders Capital Private Equity Secondaries IV S.C.S., Schroders Capital Private Equity US V S.C.S., Schroders Capital Private Equity US VI S.C.S., Schroders Capital Semi-Liquid—Circular Economy Private Plus, Schroders Capital Semi-Liquid—Global Innovation Private Plus, Schroders Capital Semi-Liquid Global Private Equity Holding S.C.S., Schroders Capital Taft-Hartley Ventures S.C.S. and Wollstonecraft L.P.

Filing Dates: The application was filed on January 27, 2022 and amended on August 19, 2022, December 16, 2022 and April 11, 2023.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on June 5, 2023, and should be accompanied by proof of service on Applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at Secretarys-Office@sec.gov.

ADDRESSES: The Commission: Secretarys-Office@sec.gov. Applicants: John V. O'Hanlon, Esquire, Dechert LLP, One International Place, 40th Floor, 100 Oliver Street, Boston, Massachusetts 02110-2605, and Thomas R. Phillips, Hartford Funds Management Company, LLC, 690 Lee Road, Wayne, Pennsylvania 19087.

FOR FURTHER INFORMATION CONTACT: Christopher D. Carlson, Senior Counsel, or Daniele Marchesani, Assistant Chief Counsel, at (202) 551-6825 (Division of Investment Management, Chief Counsel's Office).

SUPPLEMENTARY INFORMATION: For Applicants' representations, legal analysis, and conditions, please refer to Applicants' third amended and restated application, dated April 11, 2023, which may be obtained via the Commission's website by searching for the file number at the top of this document, or for an Applicant using the Company name search field, on the SEC's EDGAR system. The SEC's EDGAR system may be searched at http://www.sec.gov/edgar/searchedgar/legacy/companysearch.html. You may also call the SEC's Public Reference Room at (202) 551-8090.

For the Commission, by the Division of Investment Management, under delegated authority.
Sherry R. Haywood,
Assistant Secretary.

[FR Doc. 2023-10464 Filed 5-16-23; 8:45 am]

BILLING CODE 8011-01-P